DEPARTMENT OF EDUCATION

Smaller Learning Communities Program

AGENCY: Office of Vocational and Adult Education, Department of Education.

ACTION: Notice of proposed priority, requirements, definitions, and selection criteria for Fiscal Year (FY) 2004 and subsequent years' funds.

SUMMARY: The Assistant Secretary for Vocational and Adult Education proposes a priority, requirements, definitions, and selection criteria under the Smaller Learning Communities (SLC) program. The Assistant Secretary will use the priority, requirements, definitions, and selection criteria for a competition using fiscal year (FY) 2004 funds and may use them in later years.

DATES: We must receive your comments on or before March 28, 2005.

ADDRESSES: Address all comments about the proposed priority, requirements, definitions, and selection criteria to Deborah Williams, U.S. Department of Education, OVAE, 400 Maryland Avenue SW., Potomac Center Plaza, Room 11064, Washington, DC 20202-7241. If you prefer to send your comments through the Internet, use the following address: deborah.williams@ed.gov. You must include the term “SLC Proposed Requirements” in the subject line of your electronic message.

FOR FURTHER INFORMATION CONTACT: Deborah Williams. Telephone: (202) 245-7770 or via Internet: deborah.williams@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority, requirements, definitions, and selection criteria. To ensure that your comments have maximum effect in developing the notice of final priority, requirements, definitions, and selection criteria, we urge you to identify clearly the specific proposed priority, requirement, definition, or selection criterion that each comment addresses.

We invite you to assist us in complying with the specific requirements of Executive Order 12866 and its overall requirement of reducing regulatory burden that might result from the proposed priority, requirements, definitions, and selection criteria. Please let us know of any further opportunities we should take to reduce potential costs or increase potential benefits while preserving the effective and efficient administration of the program.

During and after the comment period, you may inspect all public comments about these proposed priorities, requirements, definitions, and selection criteria at Potomac Center Plaza, Room 11064, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed requirements and selection criteria. If you want to schedule an appointment for this type of aid, please contact Deborah Williams. Telephone: (202) 245-7770 or via Internet: deborah.williams@ed.gov.

Background

The Smaller Learning Communities program is authorized under title V, part D, subpart 4 of the Elementary and Secondary Education Act of 1965 (ESEA) (20 U.S.C. 7249), as amended by Public Law 107-110, the No Child Left Behind Act of 2001.

A strategy that may hold promise for improving the academic performance of our Nation's young people is the establishment of smaller learning communities as components of comprehensive high school improvement plans. The problems of large high schools and the related question of optimal school size have been debated for the last 40 years and are of growing interest today.

While the research on school size to date has been largely non-experimental, some evidence suggests that smaller schools may have advantages over larger schools. Research suggests that the positive outcomes associated with smaller schools stem from the schools' ability to create close, personal environments in which teachers can work collaboratively, with each other and with a small set of students, to challenge students and support learning. A variety of structures and operational strategies are thought to provide important supports for smaller learning environments; some data suggest that these approaches offer substantial advantages to both teachers and students (Ziegler 1993; Caroll 1994).

Structural changes for recasting large schools as a set of smaller learning communities (SLCs) are described in the Conference Report for the Consolidated Appropriations Act, 2000 (Pub. L. 106-113, H.R. Conference Report No. 106-479, at 1240 (1999)). Such methods include establishing small learning clusters, “houses,” career academies, magnet programs, and schools-within-a-school. Other activities may include: freshman transition activities, advisory and adult advocate systems, academic teaming, multi-year groupings, “extra help” or accelerated learning options for students or groups of students entering below grade level, and other innovations designed to create a more personalized high school experience for students. These structural changes and personalization strategies, by themselves, are not likely to improve student academic achievement. They might, however, create valuable opportunities to improve the quality of instruction and curriculum and to provide the individualized attention and academic support that all students need to excel academically. The SLC program encourages local educational agencies (LEAs) to set higher academic expectations for all of their students and to implement reforms that will provide the effective instruction and personalized academic and social support students need to meet those expectations.

The Department's ongoing efforts to ensure improved outcomes for students enrolled in programs funded by the SLC program are reflected in this notice. Many of the proposed changes represent an effort to provide grantees with sufficient time and resources to carry out their plans for raising academic achievement through comprehensive structural and instructional reforms. Toward that end, the notice proposes to extend the project period from three to five years. In addition, we are proposing an increase in the award amounts for individual grants.

In an attempt to facilitate the application process, encourage more LEAs to apply, and raise the quality of proposals received, we have streamlined the number of selection criteria from the previous competition. The priority, requirements, definitions, and selection criteria in this notice continue to focus on making the curriculum more rigorous and improving instruction through SLC structures and strategies.

Discussion of Priority

We will announce the final priority, requirements, definitions, and selection criteria in a notice in the Federal Register. We will determine the final priority after considering responses to this notice and other information available to the Department. This notice does not preclude us from proposing or using additional priorities, requirements, definitions, and selection criteria, subject to meeting applicable rulemaking requirements.

Note: This notice does not solicit applications. In any year in which we choose to use a priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Proposed Priority: Helping All Students To Succeed in Rigorous Academic Courses

This proposed priority would support projects to create or expand SLCs that will implement a coherent set of strategies and interventions that are designed to ensure that all students who enter high school with reading/language arts or mathematics skills that are significantly below grade level “catch up” quickly so that, by no later than the end of the 10th grade, they have acquired the reading/language arts and mathematics skills they need to participate successfully in rigorous academic courses that will equip them with the knowledge and skills necessary to transition successfully to postsecondary education, apprenticeships, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Application Requirements

Proposed Application Requirements

The Assistant Secretary proposes the following application requirements for this SLC competition. These proposed requirements are in addition to the content that all SLC grant applicants must include in their applications as required by the program statute under title V, part D, subpart 4, section 5441(b) of the ESEA. LEAs, including schools funded by the Bureau of Indian Affairs and educational service agencies, applying on behalf of large public high schools, are eligible to apply for a grant. A discussion of each proposed application requirement follows.

Eligibility

We propose that, to be considered for funding, LEAs must identify in their applications the name(s) of the eligible large high school(s) and the number of students enrolled in each school. A large high school is defined as one having grades 11 and 12, with 1,000 or more students enrolled in grades 9 and above. Enrollment figures would be based upon data from the current school year or data from the most recently completed school year. We would not accept applications from LEAs applying on behalf of schools that are being constructed and do not have an active student enrollment at the time of application. We propose that LEAs may apply on behalf of no more than 10 schools.

Rationale

The Department needs this information to determine if each school identified in an application meets the proposed definition of a large high school and to ensure that an LEA is not applying for more than 10 schools. Schools under construction do not have actual enrollment data to be used to determine eligibility.

School Report Cards

We propose to require that LEAs provide, for each school included in the application, the most recent “report card” produced by the State or the LEA to inform the public about the characteristics of the school and its students, including information about student academic achievement and other student outcomes. These “report cards” would include, at a minimum, the following information that LEAs are required to report for each school under section 1111(h)(2)(B)(ii) of the ESEA: (1) Whether the school has been identified for school improvement; and (2) information that shows how the academic assessments and other indicators of adequate yearly progress compare to those indicators for students in the LEA as a whole and also shows the performance of the school's students on statewide assessments.

Rationale

The Department needs the “report cards” to verify the accuracy of the information the LEA provides in its application about student academic achievement and other student outcomes at each school.

Types of Grants

We propose awarding implementation grants to applicants to support the creation or expansion of an SLC or SLCs within each targeted high school. We do not propose funding any planning grants this year.

Grants will be awarded for a period up to 60 months. We propose to require that applicants provide detailed, yearly budget information for the total grant period requested. Understanding the unique complexities of implementing a program that affects a school's organization, physical design, curriculum, instruction, and preparation of teachers, we anticipate awarding the entire grant amount at the time of the initial award.

To apply for grant funds, applicants must be prepared to implement a new SLC project within each targeted high school or to expand an existing SLC project. The first year of grant funds is not to be used for planning purposes.

Rationale

Effectively implementing an SLC project requires significant prior planning and preparation, as well as extensive consultation with, and participation by, school personnel, parents, students, and community leaders. It requires fundamentally rethinking how a school is organized and how instruction and other direct services to students are delivered. It is not a discrete activity that can be carried out by a handful of teachers and school personnel without the involvement of the larger school community. Grants would be available to those LEAs that have engaged in extensive planning activities and developed plans for implementing or expanding an SLC project at one or more high schools.

Since the inception of the SLC program in 2000, the Department has funded grants dedicated to SLC planning activities. Planning grants have been awarded to more than 350 districts. Now, resources, planning tools, and SLC research are much more prevalent and accessible for schools and districts than was the case at the outset of the SLC program. Therefore, in order to focus the SLC program on the actual implementation of SLC strategies designed to improve student achievement, this year the Department will not offer a separate competition for planning grants. Schools receiving SLC grants need to be fully prepared to take on the activities outlined in their proposals and be able to document well-established support for the SLC project.

Our proposal to extend the maximum length of the project period of grants from 36 to 60 months is appropriate, given the nature and focus of the SLC grant. Students who enter high school in the first year of the grant will be only in 11th grade by the end of a three-year grant; their experiences in the 12th grade and their post-high school outcomes will be unknown. The experiences of the LEAs that received the first SLC grants in FY 2000 also suggest that some schools may need more time to undertake the extensive restructuring associated with a successful SLC project that makes meaningful changes in curriculum and instructional practices. Therefore, we propose extending the grant period to a maximum of five years.

Consortium Applications and Educational Service Agencies

In an effort to encourage systemic, district-level reform efforts, we propose permitting an individual LEA to submit only one grant application in a competition, specifying in each application which high schools the LEA intends to fund.

In addition, we propose to require that an LEA applying for a grant under this competition apply only on behalf of a high school or high schools for which it has governing authority, unless the LEA is an educational service agency that includes in its application evidence that the entity that has governing authority over the eligible high school supports the application. An LEA, however, may form a consortium with another LEA and submit a joint application for funds. The consortium must follow the procedures for group applications described in 34 CFR 75.127-75.129 in the Education Department General Administrative Regulations (EDGAR).

An LEA is eligible for only one grant whether the LEA applies independently or as part of a consortium.

Rationale

This requirement is designed to ensure that each LEA that receives assistance under this program will manage and coordinate school-level activities as part of a single, coherent, district-wide reform strategy. This will help LEAs make the most effective and efficient use of SLC resources and assist them in aligning SLC activities with other district-level initiatives, including the implementation of activities carried out under other programs funded by the ESEA and the Carl D. Perkins Vocational and Technical Education Act. For the same reason, we are proposing to require that the LEA have governing authority over each high school it includes in its application. A high school will have considerable difficulty implementing or expanding an SLC project without the involvement of the entity that has governing authority over the school and has responsibility for implementing other Federal, State, and local programs and initiatives that involve the school.

We are proposing to make an exception for an educational service agency that applies on behalf on an eligible high school with the concurrence of the entity that has governing authority over that school, because educational service agencies are organized for the explicit purpose of providing education-related services to entities with governing authority over schools, to schools, and to their students. We note that educational service agencies are included in the ESEA statutory definition of LEA but typically do not have governing authority over high schools they serve. Generally, the administrative control or direction of a high school is vested in a public board of education or another public authority other than an educational service agency. However, we recognize that not all entities that have administrative control or direction of eligible high schools have the capacity to apply for and administer an SLC grant. For some districts and schools, educational service agencies provide resources and expertise to assist them in performing functions that they otherwise could not, by themselves, perform efficiently or at all.

Budget Information for Determination of Award

We propose that LEAs may receive, on behalf of a single school, up to $1,175,000, depending upon the size of the school, during the 60-month project period. LEAs applying on behalf of a group of eligible schools could receive up to $11,750,000 per grant. To ensure that sufficient funds are available to support SLC activities, we propose a limit of 10 schools that an LEA may include in a single application for a grant.

The following chart provides the ranges of awards per high school size that we are proposing:

SLC Grant Award Ranges
Student enrollment | Award ranges per school
1,000-2,000 Students | $650,000-$800,000
2,001-3,000 Students | $650,000-$925,000
3,001-4,000 Students | $650,000-$1,050,000
4,001 and Up | $650,000-$1,175,000

The actual size of awards would be based on a number of factors. These factors include the scope, quality, and comprehensiveness of the proposed project and the range of awards indicated in the application.

Applications that request more funds than the maximum amounts specified for any school or for the total grant would not be read as part of the regular application process. However, if after the Secretary selects applications to be funded, it appears that additional funds remain available, the Secretary may choose to read those additional applications that requested funds exceeding the maximum amounts specified. If the Secretary chooses to fund any of those additional applications, applicants would be required to work with the Department to revise their proposed budgets to fit within the appropriate funding range.

Rationale

In previous SLC competitions, some applicants have requested more funds than the amount that we indicated would be available for a grant. Their applications included activities that could only be implemented if the applicants received a funding amount that exceeded the maximum amount specified in the notice. This strategy put at a competitive disadvantage other applicants that requested funds within the specified funding range and outlined a less extensive set of activities. For this reason, we propose to fund only those applications that request an amount that does not exceed the maximum amounts specified for the grants.

We determined these amounts after reviewing the experiences of previous recipients of SLC funds and examining the design and outcomes of other similar Federal, State, and privately funded programs.

Requiring applicants to provide detailed, yearly budget information for the total grant period requested is necessary for us to determine appropriate grant amounts based on the needs of the LEA and high schools. We are proposing to increase the individual amount per school to $1,175,000 and the maximum LEA award amount to $11,750,000 for a grant of 10 schools. In previous competitions, the grant amount was substantially less, as was the allowed project period. Because we are proposing to increase the project period from 36 months to 60 months, we believed it necessary to increase the grant amount accordingly. The proposed grant amount also was increased to provide additional support for independent evaluation activities and for comprehensive strategies and interventions to assist students who enter high school with reading or math skills that are significantly below grade level, both of which we propose to require SLC grantees to implement. Moreover, we have also been seeking to focus SLC grantees on the more difficult work of making the curriculum more rigorous and improving instruction, and cautioning them against pursuing structural changes alone. Implementing these more complex reforms is likely to be more costly than changing the organizational structure of schools alone.

Student Placement

We propose that applicants for SLC grants must include a description of how students will be selected or placed in an SLC and an assurance that students will not be placed according to ability or any other measure, but will be placed at random or by student/parent choice and not pursuant to testing or other judgments.

Rationale

As in all previous SLC competitions, the Department needs this information to ensure that each funded project complies with the requirements of the statute regarding random assignment or student/parent choice for SLC placement of students. Section 5441(b)(13) of the ESEA, as amended by the No Child Left Behind Act of 2001, requires applicants for SLC grants to describe the method of placing students in the SLC or SLCs, “such that students are not placed according to ability or any other measure, but are placed at random or by their own choice and not pursuant to testing or other judgments.” For instance, projects that place students in any SLC on the basis of their prior academic achievement or performance on an academic assessment are not eligible for assistance under this program.

Including All Students

We propose to require applicants for grants to implement or expand an SLC project that will include every student within the school by no later than the end of the fifth school year of implementation. Elsewhere in this notice, we propose to define an SLC as an environment in which a group of teachers and other adults within the school knows the needs, interests, and aspirations of each student well, closely monitors each student's progress, and provides the academic and other support each student needs to succeed.

Rationale

The purpose of creating SLCs within large high schools is to provide students with individualized attention, support, and instruction that will help them excel academically and acquire the knowledge and skills they need to succeed after high school. Young people have many different needs and personal resources, but most young people could benefit from participating in a well-implemented SLC. While it may be easier to implement incremental reforms that include only a limited number of students, we do a disservice to young people when we narrow our sights in this way. For this reason, we propose to support only projects that will include every student within an SLC.

Performance Indicators

We propose to require applicants to identify in their application specific performance indicators and annual performance objectives for each of these indicators. Specifically, we propose to require applicants to use the following performance indicators to measure the progress of each school:

(1) The percentage of students who score at the proficient and advanced levels on the reading/language arts and mathematics assessments used by the State to determine whether a school has made adequate yearly progress under part A of title I of the ESEA, as well as these percentages disaggregated by subject matter and the following subgroups:

(A) Major racial and ethnic groups;

(B) Students with disabilities;

(C) Students with limited English proficiency; and

(D) Economically disadvantaged students.

(2) The school's graduation rate, as defined in the State's approved accountability plan for part A of title I of the ESEA;

(3) The percentage of graduates who enroll in postsecondary education, apprenticeships, or advanced training for the semester following graduation;

(4) The percentage of graduates who are employed by the end of the first quarter after they graduate (e.g., for students who graduate in May or June, this would be September 30);

(5) Other appropriate indicators the LEA may choose to identify in its application, such as rates of average daily attendance and year-to-year retention; achievement and gains in English proficiency of limited English proficient students; the incidence of school violence, drug and alcohol use, and disciplinary actions; or the percentage of students completing advanced placement courses, and the rate of passing advanced placement tests (such as Advanced Placement and International Baccalaureate) and courses for college credit.

Applicants would be required to include in their applications baseline data for each of these indicators and identify performance objectives for each year of the project period. We further propose to require recipients of grants to report annually on the extent to which each school achieves its performance objectives for each indicator during the preceding school year. We propose to require grantees to include in these reports comparable data, if available, for the preceding three school years so that trends in performance will be more apparent.

Rationale

While creating SLCs can appeal to teachers, students, and parents for many reasons, their fundamental purpose is to improve academic achievement and to prepare all young people to participate successfully in postsecondary education or advanced training, the workforce, and our communities. Assistance provided under the SLC project should also support and enhance the efforts of LEAs and schools to fulfill the ambitious goals of the No Child Left Behind Act of 2001.

For these reasons, it is important that projects measure their progress in improving student academic achievement and related outcomes. Two of the indicators we propose to use, student performance on reading/language arts and mathematics assessments and the graduation rate, are the same indicators used by States to measure the progress of LEAs and high schools under part A of title I of ESEA. Performance objectives for these indicators should equal or exceed the measurable annual objectives established by the State in its approved accountability plan for part A of title I of ESEA.

In today's economy, completing some form of postsecondary education or training beyond high school is often a prerequisite to securing employment that pays family-supporting wages and offers opportunities for career advancement. Most parents and students understand this well, and they consider preparing young people for postsecondary education or further learning to be one of the central missions of the American high school. The third indicator we are proposing, entrance into postsecondary education or advanced training, will measure the success of LEAs and schools in fulfilling these expectations. Performance objectives for this indicator should exceed the baseline level of performance and give particular emphasis to narrowing any gaps between students in general and economically disadvantaged students, students from major racial and ethnic groups, students with disabilities, and students with limited English proficiency.

Our high schools also must prepare young people to succeed in the workforce. All high school graduates should have the necessary skills to obtain gainful employment, whether they decide to work in order to help pay for postsecondary education and their living expenses or decide to enter the workforce full-time after high school. The extent to which graduates are able to find employment after leaving high school is another important measure of the success of a high school in meeting the needs of its students.

Certainly, LEAs and schools will have other goals they hope to achieve through the implementation or expansion of an SLC project. For this reason, we propose to give applicants for grants the opportunity to identify and establish performance objectives for other indicators that they consider useful and appropriate, such as, for example, rates of average daily attendance or incidents of violence and drug and alcohol use.

Evaluation

We propose to require each applicant to provide assurances that it will support an evaluation of the project that provides information to the project director and school personnel, and that will be useful in gauging the project's progress and in identifying areas for improvement. We propose that each evaluation include an annual report for each of the first four years of the project period and a final report that would be completed at the end of the fifth year of implementation and that will include information on implementation during the fifth year as well as information on the implementation of the project across the entire project period. We would require grantees to submit each of these reports to the Department.

In addition, we propose to require that the evaluation be conducted by an independent third party, selected by the applicant, whose role in the project is limited to conducting the evaluation.

Rationale

Implementing or expanding an SLC project is difficult and complex work that administrators, teachers, and other school personnel must carry out at the same time that they are carrying out other demanding, day-to-day responsibilities. An evaluation that provides regular feedback on the progress of implementation and its impact can help the project director and school personnel identify their successes and how they may need to revise their strategies to accomplish their goals. To be most useful, the evaluation should be objective and be carried out by an independent third party who has no other role in the implementation of the project.

High-Risk Status and Other Enforcement Mechanisms

Because the requirements listed in this notice are material requirements, we propose that failure to comply with any requirement or with any elements of the grantee's application would subject the grantee to administrative action, including but not limited to designation as a “high-risk” grantee, the imposition of special conditions, or termination of the grant. Circumstances that might cause the Department to take such action include, but are not limited to: The grantee showing a decline in student achievement after two years of implementation of the grant; the grantee's failure to make substantial progress in completing the milestones outlined in the management plan included in the application; and the grantee's expenditure of funds in a manner that is inconsistent with the budget as submitted in the application.

Rationale

Part of the Department's role in administering grant funds under the SLC program is to ensure that those funds are used in a manner consistent with the aims of the grant program. To help ensure proper use of funds, the Department reserves the right to use the enforcement actions listed above if grantees fail to meet the requirements of the law or the SLC program, or if student achievement appears to be declining during implementation of the grant.

Required Meetings Sponsored by the Department

Applicants must set aside adequate funds within their proposed budget to send their project director to a two-day project directors' meeting in Washington, DC, and to send a team of five key staff members, including their external evaluator, to attend a two-and-a-half-day Regional Institute. Both meetings will be hosted by the Department.

Rationale

Convening all project directors at an initial meeting allows Federal staff to provide introductory information on grants administration and Department regulations, the evaluation process, and other topics of interest to new grantees. Regional Institutes provide grantee teams the opportunity to attend forums on topics relevant to the Department's high school-related activities.

Previous Grantees

We propose to allow an LEA to apply on behalf of a school that received funds for an implementation grant under the original FY 2000 SLC program competition to apply on behalf of the school for a second SLC grant under the terms set forth in this notice. LEAs applying on behalf of schools that received funding for an implementation grant under the FY 2000 competition would be required to submit a copy of the final report for their FY 2000 implementation grant. LEAs would not be able to apply for funding on behalf of schools that received an SLC implementation grant under the competitions in fiscal years 2001, 2002, or 2003.

Rationale

The performance period for implementation grants awarded in FY 2000 has ended. These grantees are no longer receiving Federal assistance to implement SLCs. The performance period for implementation grants awarded in fiscal years 2001, 2002, and 2003 has not yet expired. Moreover, the original SLC grantees that were awarded funds in FY 2000 were not required to undertake a number of the activities that have been required in subsequent competitions, including implementing SLCs “wall-to-wall,” interventions for students who enter high school with reading/language arts or mathematics skills that are significantly below grade level, and an external evaluation. Allowing LEAs to apply on behalf of these schools for further funding will enable them to implement activities that were required of schools that were awarded funds in subsequent SLC competitions.

Definitions

Proposed Definitions

In addition to the definitions set out in the authorizing statute and 34 CFR 77.1, we propose that the following definitions also apply to this program:

BIA School means a school operated or supported by the Bureau of Indian Affairs.

Large High School means an entity that includes grades 11 and 12 and has an enrollment of 1,000 or more students in grades 9 and above.

Smaller Learning Community (SLC) means an environment in which a core group of teachers and other adults within the school know the needs, interests, and aspirations of each student well, closely monitor each student's progress, and provide the academic and other support each student needs to succeed.

Selection Criteria

Proposed Selection Criteria

We propose that the following selection criteria be used to evaluate applications for new grants under this program. We may apply these selection criteria to any SLC competition in the future.

Note: The maximum score for all of these criteria will be 100 points. We will inform applicants of the points or weights assigned to each criterion and sub-criterion in a notice published in the Federal Register.

Need for the Project

In determining the need for the proposed project, we will consider the extent to which the applicant will:

(1) Assist schools that have the greatest need for assistance, as indicated by, relative to other high schools within the State, one or more of the factors below:

(A) Student performance on the academic assessments in reading/language arts and mathematics administered by the State under part A, title I of the ESEA, including gaps in the performance of all students and that of student subgroups, such as economically disadvantaged students, students from major racial and ethnic groups, students with disabilities, or students with limited English proficiency.

(B) The school's dropout rate, and gaps in the graduation rate between all students and student subgroups.

(C) Disciplinary actions.

(D) The percentage of graduates who enroll in postsecondary education, apprenticeships, or advanced training in the semester following graduation, and gaps between all students and student subgroups.

Foundation for Implementation

In determining the quality of the implementation plan for the proposed project, we will consider the extent to which:

(1) Teachers and administrators within each school support the proposed project and have been and will continue to be involved in its planning and development, including, particularly, those teachers who will be directly affected by the proposed project.

(2) Parents, students, and other community stakeholders support the proposed project and have been involved in its planning and development.

(3) The proposed project is consistent with, and will advance, State and local initiatives to increase student achievement and narrow gaps in achievement between all students and student subgroups.

(4) The applicant demonstrates that it has carried out sufficient planning and preparatory activities to enable it to implement the proposed project at the beginning of the school year immediately following receipt of an award.

Quality of the Project Design

In determining the quality of the project design for the SLC project, we will consider the extent to which—

(1) The applicant will implement or expand strategies, new organizational structures, or other changes in practice that are likely to create an environment in which a core group of teachers and other adults within the school know the needs, interests, and aspirations of each student well, closely monitor each student's progress, and provide the academic and other support each student needs to succeed;

(2) The applicant proposes research-based strategies that are likely to improve overall student achievement and other outcomes (including graduation rates and enrollment in postsecondary education), narrow any gaps in achievement between all students and student subgroups, and address the particular needs identified by the school under the paragraph titled Need for the Project, such as—

(A) More rigorous academic curriculum for all students, and the provision of academic support to struggling students who need assistance to master more challenging academic content;

(B) More intensive and individualized educational counseling and career and college guidance, provided through mentoring, teacher advisories, adult advocates, or other means;

(C) Strategies designed to increase average daily attendance, increase the percentage of students who transition from the 9th to 10th grade, and improve the graduation rate; and

(D) Expanding opportunities for students to participate in advanced placement courses and other academic and technical courses that offer both high school and postsecondary credit.

(3) The applicant will implement accelerated learning strategies and interventions that will assist students who enter the school with reading/language or mathematics skills that are significantly below grade level and that:

(A) Are designed to equip participating students with grade-level reading/language arts and mathematics skills by no later than the end of the 10th grade; and that—

(B) Are grounded in scientifically based research;

(C) Include the use of age-appropriate instructional materials and teaching and learning strategies;

(D) Provide additional instructional and academic support during the regular school day, which may be supplemented by instruction that is provided before or after school, on weekends, and at other times when school is not in session;

(E) Will be delivered with sufficient intensity to improve the reading/language arts or math skills, as appropriate, of participating students; and

(F) Include sustained professional development and ongoing support for teachers and other personnel who are responsible for delivering instruction.

(4) The applicant will provide high-quality professional development throughout the project period that advances the understanding of teachers, administrators, and other school staff of effective, research-based instructional strategies for improving the academic achievement of students, including, particularly, students with academic skills that are significantly below grade level, and provide the knowledge and skills those staff need to participate effectively in the development, expansion, or implementation of an SLC.

(5) The proposed project fits into a comprehensive district high school improvement strategy to increase the academic achievement of all district high school students, reduce gaps between the achievement of all students and student subgroups, and prepare students to enter postsecondary education or the workforce.

(6) The proposed project is part of a cohesive plan that uses funds provided under the ESEA, the Carl D. Perkins Vocational and Technical Education Act, or other Federal programs, as well as local, State, and private funds sufficient to ensure continuation of efforts after Federal support ends.

Quality of the Management Plan

In determining the quality of the management plan for the proposed project, we consider the following factors:

(1) The adequacy of the proposed management plan to achieve the objectives of the proposed project on time and within budget, including clearly defined responsibilities and detailed timelines and milestones for accomplishing project tasks;

(2) The extent to which time commitments of the project director and other key personnel are appropriate and adequate to implement the SLC project effectively.

(3) The qualifications, including relevant training and experience, of the project director and other key personnel; and

(4) The adequacy of resources, including the extent to which the budget is adequate and costs are directly related to the objectives and design of the research evaluation and SLC activities.

Quality of the SLC Project Evaluation

In determining the quality of the proposed project evaluation conducted by an independent, third-party evaluator, we consider the following factors—

(1) The extent to which the methods of evaluation are thorough, feasible, and appropriate to the goals, objectives, and outcomes of the proposed SLC project;

(2) The extent to which the evaluation will collect and report accurate qualitative and quantitative data that will be useful in assessing the success and progress of implementation, including, at a minimum—

(A) Measures of student academic achievement that provide data for the performance indicators identified in the application, including results that are disaggregated for economically disadvantaged students, students from major racial and ethnic groups, students with disabilities, students with limited English proficiency, and other subgroups identified by the applicant; and

(B) Other measures identified by the applicant in the application as performance indicators;

(3) The extent to which the methods of evaluation will provide timely and regular feedback to the LEA and the school on the success and progress of implementation, and identify areas for needed improvement.

(4) The qualifications and relevant training and experience of the independent evaluator.

Executive Order 12866

This notice of proposed priority, requirements, definitions, and selection criteria has been reviewed in accordance with Executive Order 12866. Under the terms of the order, we have assessed the potential costs and benefits of this regulatory action.

The potential costs associated with this notice of proposed priority, requirements, definitions, and selection criteria are those resulting from statutory requirements and those we have determined as necessary for administering this program effectively and efficiently.

In assessing the potential costs and benefits—both quantitative and qualitative—of this notice of proposed priority, requirements, definitions, and selection criteria, we have determined that the benefits of the proposed priority, requirements, definitions, and selection criteria justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program)
Dated: February 22, 2005.
Susan Sclafani,
Assistant Secretary for Vocational and Adult Education.

[FR Doc. E5-767 Filed 2-24-05; 8:45 am]

BILLING CODE 4000-01-P